DEPARTMENT OF HOMELAND SECURITY

Coast Guard

33 CFR Part 117

[Docket No. USCG-2015-1124]

Drawbridge Operation Regulation; Upper Mississippi River, St. Paul, MN

AGENCY: Coast Guard, DHS.

ACTION: Notice of deviation from drawbridge regulation.

SUMMARY: The Coast Guard has issued a temporary deviation from the operating schedule that governs the Chicago and Northwestern Railroad Drawbridge across the Mississippi River, mile 839.2, at St. Paul, Minnesota. The deviation is necessary to allow the bridge owner time to perform preventive maintenance that is essential to the continued safe operation of the drawbridge, and is scheduled in the winter when there is less impact on navigation. This deviation allows the bridge to be closed to navigation.

DATES: This deviation is effective without actual notice from January 26, 2016 until 11:59 p.m., February 6, 2016. For the purposes of enforcement, actual notice will be used from 12:01 a.m., January 18, 2016 until 11:59 p.m., February 6, 2016.

ADDRESSES: The docket for this deviation (USCG-2015-1124) is available at http://www.regulations.gov. Type the docket number in the “SEARCH” box and click “SEARCH.” Click on Open Docket Folder on the line associated with this deviation.

FOR FURTHER INFORMATION CONTACT: If you have questions on this temporary deviation, call or email Eric A. Washburn, Bridge Administrator, Western Rivers, Coast Guard; telephone 314-269-2378, email Eric.Washburn@uscg.mil.

SUPPLEMENTARY INFORMATION: The Union Pacific Railroad requested a temporary deviation for the Chicago and Northwestern Railroad Drawbridge, across the Upper Mississippi River, mile 839.2, at St. Paul, Minnesota to be closed to navigation from 12:01 a.m., January 18, 2016 until 11:59 p.m., January 23, 2016 and from 12:01 a.m., February 1, 2016 until 11:59 p.m., February 6, 2016 for a total of twelve days for scheduled maintenance and for replacement of the liftspan counter weight wire ropes on the bridge. This deviation is scheduled during the winter months causing the least impact on navigation under the bridge.

The Chicago and Northwestern Railroad Drawbridge currently operates in accordance with 33 CFR 117.671(b), which states the general requirement that the drawbridge shall open on signal except from December 15 through the last day of February drawbridge shall open on signal if at least 12 hours notice is given.

There are no alternate routes for vessels transiting this section of the Upper Mississippi River. The bridge cannot open in case of emergency.

The Chicago and Northwestern Railroad Drawbridge provides a vertical clearance of 25.1 feet above normal pool in the closed-to-navigation position. Navigation on the waterway consists primarily of commercial tows and recreational watercraft and will not be significantly impacted. This temporary deviation has been coordinated with waterway users. No objections were received.

In accordance with 33 CFR 117.35(e), the drawbridge must return to its regular operating schedule immediately at the end of the effective period of this temporary deviation. This deviation from the operating regulations is authorized under 33 CFR 117.35.

Dated: January 20, 2016.
Eric A. Washburn,
Bridge Administrator, Western Rivers.

[FR Doc. 2016-01444 Filed 1-25-16; 8:45 am]

BILLING CODE 9110-04-P